DEPARTMENT OF LABOR

Employment and Training Administration

[TA-W-56,606]

Solo Cup Company, Springfield, MO; Notice of Termination of Investigation

Pursuant to section 221 of the Trade Act of 1974, an investigation was initiated on February 18, 2005, in response to a petition filed by the International Brotherhood of Electrical Workers Union, Local 1553 on behalf of workers at Solo Cup Company, Springfield, Missouri.

The petitioner has requested that the petition be withdrawn. Consequently, the investigation has been terminated.

Signed in Washington, DC, this 1st day of March, 2005.
Elliott S. Kushner,
Certifying Officer, Division of Trade Adjustment Assistance.

[FR Doc. E5-1158 Filed 3-15-05; 8:45 am]

BILLING CODE 4510-30-P